ARCHITECTURAL AND TRANSPORTATION BARRIERS COMPLIANCE BOARD

[Docket No. ATBCB-2011-0003]

Agency Information Collection Activities: Proposed Collection; Comment Request; Generic Clearance for the Collection of Qualitative Feedback on Agency Service Delivery

AGENCY: Architectural and Transportation Barriers Compliance Board.

ACTION: 30-day notice of submission of information collection approval from the Office of Management and Budget and request for comments.

SUMMARY: As part of a Federal governmentwide effort to streamline the process to seek feedback from the public on service delivery, the Architectural and Transportation Barriers Compliance Board (Access Board) has submitted a Generic Information Collection Request: “Generic Clearance for the Collection of Qualitative Feedback on Agency Service Delivery” to the Office of Management and Budget for approval under the Paperwork Reduction Act.

DATES: Comments must be submitted by August 1, 2011.

ADDRESSES: Submit comments by any of the following methods:

• Federal eRulemaking Portal http://www.regulations.gov. Follow the instructions for submitting comments. Regulations.gov ID for this docket is ATBCB-2011-0003.

• E-mail: fairhall@access-board.gov. Include docket number ATBCB-2011-0003 in the subject line of the message.

• Fax: 202-272-0081.

• Mail or Hand Delivery/Courier: Office of the General Counsel, U.S. Access Board, 1331 F Street, NW., Suite 1000, Washington, DC 20004-1111.

All comments received will be posted without change to http://www.regulations.gov, including any personal information provided.

FOR FURTHER INFORMATION CONTACT: Lisa Fairhall, Office of the General Counsel, Access Board, 1331 F Street, NW., Suite 1000, Washington, DC 20004-1111. Telephone number: 202-272-0046 (voice); 202-272-0064 (TTY); 202-272-0081 (FAX). Electronic mail address: fairhall@access-board.gov.

SUPPLEMENTARY INFORMATION:

Title: Generic Clearance for the Collection of Qualitative Feedback on Agency Service Delivery.

Abstract: This information collection activity will gather qualitative customer and stakeholder feedback in an efficient, timely manner, in accordance with the Administration's commitment to improving service delivery. By qualitative feedback we mean information that provides useful insights on perceptions and opinions, but are not statistical surveys that yield quantitative results that can be generalized to the population of study. This feedback will provide insights into customer or stakeholder perceptions, experiences and expectations, provide an early warning of issues with service, or focus attention on areas where communication, training, or changes in operations might improve delivery of products or services. These collections will allow for ongoing, collaborative, and actionable communications between the agency and its customers and stakeholders. It will also allow feedback to contribute directly to the improvement of program management.

Feedback collected under this generic clearance will provide useful information, but it will not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior fielding the study. Depending on the degree of influence the results are likely to have, such collections may still be eligible for submission for other generic mechanisms that are designed to yield quantitative results.

The Access Board received no comments in response to the 60-day notice published in the Federal Register of December 22, 2010 (75 FR 80542).

Below we provide the Access Board's projected average estimates for the next three years: ¹

¹ The 60-day notice included the following estimate of the aggregate burden hours for this generic clearance federal-wide:

Average Expected Annual Number of Activities: 25,000.

Average Number of Respondents per Activity: 200.

Annual responses: 5,000,000.

Frequency of Response: Once per request.

Average minutes per response: 30.

Burden hours: 2,500,000.

Current Actions: New collection of information.

Type of Review: New collection.

Affected Public: Individuals and households, businesses and organizations, State, Local or Tribal Government.

Average Expected Annual Number of Activities: 7.

Respondents: 1,100.

Annual responses: 1,100.

Frequency of Response: Once per request.

Average minutes per response: 6 minutes.

Burden hours: 103 hours.

An agency may not conduct or sponsor, and a person is not required to respond to, a collection of information unless it displays a currently valid Office of Management and Budget control number.

David M. Capozzi,
Executive Director.

[FR Doc. 2011-16510 Filed 6-29-11; 8:45 am]

BILLING CODE P